INTERNATIONAL TRADE COMMISSION

[Inv. No. 337-TA-507]

In the Matter of Certain Medical Devices Used To Compact Inner Bone Tissue and Products Containing Same; Notice of Commission Decision Not To Review an Initial Determination Terminating the Investigation; Issuance of Consent Order

AGENCY: International Trade Commission.

ACTION: Notice.

SUMMARY: Notice is hereby given that the U.S. International Trade Commission has determined not to review an initial determination (“ID”) issued by the presiding administrative law judge (“ALJ”) terminating the above-captioned investigation on the basis of a consent order.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission instituted this investigation on May 2, 2004, based on a complaint filed by complainant Kyphon Inc. of Sunnyvale, California. The respondents are Disc-O-Tech Medical Technologies, Ltd. of Herzliya, Israel, and Disc Orthopaedic Technologies, Inc. of Monroe Township, NJ. The complaint alleged violations of section 337 in the importation and sale of certain medical devices used to compact inner bone tissue and products containing same by reason of infringement of certain claims 1, 3, 7-9, 11, and 14 of U.S. Patent No. 4,969,888, claims 1, 3, 8-10, 12, and 15 of U.S. Patent 5,108,404, and claims 2, 17, 20, and 23-28 of U.S. Patent No. 6,248,110.

On August 5, 2004, the ALJ issued an ID (Order No. 13) granting in part respondents' motion to terminate the investigation and based on entry of a consent order proposed by respondents. No petitions for review of the ID were filed.

The authority for the Commission's determination is contained in section 337 of the Tariff Act of 1930, as amended (19 U.S.C. 1337), and in section 210.42 of the Commission's Rules of Practice and Procedure (19 CFR 210.42).

Issued: August 30, 2004.
By order of the Commission.
Marilyn R. Abbott,
Secretary to the Commission.

[FR Doc. 04-20082 Filed 9-2-04; 8:45 am]

BILLING CODE 7020-02-P